DEPARTMENT OF TRANSPORTATION

Coast Guard

33 CFR Part 117

[CGD01-02-142]

Drawbridge Operation Regulations: Jamaica Bay and Connecting Waterways, NY

AGENCY: Coast Guard, DOT.

ACTION: Notice of temporary deviation from regulations.

SUMMARY: The Commander, First Coast Guard District, has issued a temporary deviation from the drawbridge operation regulations that govern the Marine Parkway Bridge across Jamaica Bay, mile 3.0, between Brooklyn and Queens, New York. This temporary deviation will allow the bridge to remain in the closed position from 7 a.m. on December 19, 2002 through 5 p.m. on December 20, 2002. This temporary deviation is necessary to facilitate repairs at the bridge.

DATES: This deviation is effective from December 19, 2002 through December 20, 2002.

ADDRESSES: Materials referred to in this document are available for inspection or copying at the First Coast Guard District, Bridge Branch Office, One South Street, New York, New York 10004, between 8 a.m. and 3:30 p.m., Monday through Friday, except Federal holidays. The telephone number is (212) 668-7165. The First Coast Guard District Bridge Branch maintains the public docket for this temporary deviation.

FOR FURTHER INFORMATION CONTACT: Mr. Joseph Schmied, Project Officer, First Coast Guard District Bridge Branch, (212) 668-7165.

SUPPLEMENTARY INFORMATION: The vertical clearance under the Marine Parkway Bridge in the closed position is 55 feet at mean high water and 59 feet at mean low water. The existing regulations are listed at 33 CFR 117.795.

The bridge owner, MTA Bridges and Tunnels Authority, requested a temporary deviation from the Drawbridge Operation Regulations to facilitate necessary maintenance, the removal of work platforms, at the bridge.

The Coast Guard coordinated this project with the mariners who normally use this waterway to help determine the best time period to perform this necessary bridge maintenance.

Under this temporary deviation the Marine Parkway Bridge, mile 3.0, across Jamaica Bay, may remain in the closed position from 7 a.m. on December 19, 2002 through 5 p.m. on December 20, 2002.

This deviation from the operating regulations is authorized under 33 CFR § 117.35, and will be performed with all due speed in order to return the bridge to normal operation as soon as possible.

Dated: December 4, 2002.
V.S. Crea,
Rear Admiral, U.S. Coast Guard, Commander, First Coast Guard District.

[FR Doc. 02-31540 Filed 12-13-02; 8:45 am]

BILLING CODE 4910-15-P